DEPARTMENT OF COMMERCE

National Oceanic and Atmospheric Administration

[I.D. 051000A]

Marine Mammals; Permit No. 1004 (P595)

AGENCY: National Marine Fisheries Service, (NMFS), National Oceanic and Atmospheric Administration (NOAA), Commerce.

ACTION: Scientific research permit amendment.

SUMMARY: Notice is hereby given that a request for amendment of scientific research no. 1004 submitted by the Whale Conservation Institute/Ocean Alliance, 191 Weston Road, Lincoln, MA 01773, has been granted.

ADDRESSES: The amendment and related documents are available for review upon written request or by appointment, in the following offices:

Permits Division, Office of Protected Resources, NMFS, 1315 East-West Highway, Room 13705, Silver Spring, MD 20910 (301/713-2289); and

Director, Northeast Region, NMFS, One Blackburn Drive, Gloucester, MA 01930-2298 (508/281-9250).

FOR FURTHER INFORMATION CONTACT: Ruth Johnson, 301/713-2289.

SUPPLEMENTARY INFORMATION: February 11, 2000, notice was published in the Federal Register (65 FR 6997) that an amendment of permit no. 1004, issued June 21, 1996 (61 FR 33906) had been requested by the above-named organization. The requested amendment has been granted under the authority of the Marine Mammal Protection Act of 1972 as amended (16 U.S.C. 1361 et seq.), the Regulations Governing the Taking and Importing of Marine Mammals (50 CFR part 216), the Endangered Species Act of 1973 as amended (ESA, 16 U.S.C. 1531 et seq.), and the regulations governing endangered and threatened species (50 CFR parts 222-226).

Permit No. 1004 has been amended to: (1) extend the expiration date of the permit to December 31, 2000; (2) increase the number of imported tissue samples from all species, except southern right whale (Eubalaena australis); and (3) increase locations from which samples may be imported.

Issuance of this amendment as required by the ESA of 1973 was based on a finding that the permit: (1) was applied for in good faith; (2) will not operate to the disadvantage of the endangered species which is the subject of this permit; and (3) is consistent with the purposes and policies set forth in Section 2 of the ESA.

Dated: June 5, 2000.
Ann D. Terbush,
Chief, Permits and Documentation Division, Office of Protected Resources, National Marine Fisheries Service.

[FR Doc. 00-14674 Filed 6-8-00; 8:45 am]

BILLING CODE 3510-22-F